DEPARTMENT OF COMMERCE

International Trade Administration

St. Louis Science Center; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, NW., Washington, DC.

Docket Number: 01-001R. Applicant: St. Louis Science Center, St. Louis, MO 63110. Instrument: Universal Planetarium, Universarium Model IX. Manufacturer: Carl Zeiss, Germany. Intended Use: See notice at 66 FR 34154, June 27, 2001.

Comments: None received. Decision: Approved. No instrument of equivalent scientific value to the foreign instrument, for such purposes as it is intended to be used, is being manufactured in the United States. Reasons: The foreign instrument provides: (1) A unique fiber-optic system for projecting stars with high brightness, (2) ability to project the night sky in an environment with ambient lighting and (3) naturally appearing star scintillation. The National Air and Space Museum advised July 20, 2001 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-21471 Filed 8-23-01; 8:45 am]

BILLING CODE 3510-DS-P